DEPARTMENT OF LABOR

Occupational Safety and Health Administration

Susan Harwood Training Grant Program, FY 2010

AGENCY: Occupational Safety and Health Administration, Labor.

ACTION: Notification of Funding Opportunity for Susan Harwood Training Grant Program, FY 2010.

Funding Opportunity No.: SHTG-FY-10-01.

Catalog of Federal Domestic Assistance No.: 17.502.

SUMMARY: This notice announces grant availability of approximately $8 million for the Susan Harwood Training Grant Program for Capacity Building grants. The complete Harwood solicitation for grant applications (SGA) for Capacity Building grants is available at: http://www.grants.gov.

Capacity Building grants will support and assist organizations to establish or expand the capacity of the organization at all levels to address occupational safety and health problems, and provide training and education as well as related assistance. Capacity Building grants will be awarded for one-year Pilot and multi-year Developmental grants.

OSHA will also be publishing a second Susan Harwood Training Grant Program solicitation for grant applications for Targeted Topic training grants in the near future.

DATES: Capacity Building grant applications must be received electronically by the Grants.gov system no later than 4:30 p.m., e.t. on July 2, 2010, the application deadline date.

ADDRESSES: The complete Susan Harwood Training Grant Program solicitation for grant applications for Capacity Building grants and all information needed to apply for this funding opportunity are available at: http://www.grants.gov.

FOR FURTHER INFORMATION CONTACT: Any questions regarding this solicitation for grant applications should be directed to Cynthia Bencheck, Program Analyst, e-mail address: bencheck.cindy@dol.gov, tel: 847-759-7700 (note this is not a toll-free number), or Jim Barnes, Director, Office of Training and Educational Programs, e-mail address: barnes.jim@dol.gov, tel: 847-759-7700 (note this is not a toll-free number.)

To obtain further information on the Susan Harwood Training Grant Program of the U.S. Department of Labor, visit the OSHA Web site at: https://www.osha.gov, select “Training” under the “Top Links” section, and then select “Susan Harwood Training Grant Program”.

Authority: The Occupational Safety and Health Act of 1970, (29 U.S.C. 670), Public Law 111-117, and the 2010 Consolidated Appropriations Act.

Signed at Washington, DC, this 21st day of May 2010.
David Michaels,
Assistant Secretary of Labor for Occupational Safety and Health.

[FR Doc. 2010-12692 Filed 5-26-10; 8:45 am]

BILLING CODE 4510-26-P